DEPARTMENT OF TRANSPORTATION

Coast Guard

46 CFR Part 34

Firefighting Equipment

CFR Correction

In Title 46 of the Code of Federal Regulations, Parts 1 to 40, revised as of October 1, 2001, on page 462, in § 34.50-10, paragraph (e) is revised to read as follows:

§ 34.50-10 Location—TB/ALL.

* * * * *

(e) Portable extinguishers and their stations shall be numbered in accordance with § 35.40-25 of this subchapter.

* * * * *

[FR Doc. 02-55524 Filed 10-29-02; 8:45 am]

BILLING CODE 1505-01-D